DEPARTMENT OF ENERGY

Federal Energy Regulatory Commission

[Project No. 14369-000]

Nuvista Light and Electric Cooperative, Inc.; Notice of Preliminary Permit Application Accepted for Filing and Soliciting Comments, Motions To Intervene, and Competing Applications

On March 2, 2012, Nuvista Light and Electric Cooperative, Inc., filed an application for a preliminary permit, pursuant to section 4(f) of the Federal Power Act (FPA), proposing to study the feasibility of the Chikuminuk Lake Hydroelectric Project (Chikuminuk Project or project) to be located on the Allen River, 118 miles southeast of Bethel, Alaska, in the unincorporated Bethel and Dillingham Census Area, Alaska. The project would be partially located on federal lands managed by the U.S. Fish and Wildlife Service in the Yukon Delta National Wildlife Refuge. The sole purpose of a preliminary permit, if issued, is to grant the permit holder priority to file a license application during the permit term. A preliminary permit does not authorize the permit holder to perform any land-disturbing activities or otherwise enter upon lands or waters owned by others without the owners' express permission.

The proposed project would consist of the following: (1) An approximately 1,325-foot-long, 128-foot-high concrete-faced rockfill dam; (2) a 25-foot-diameter intake structure; (3) a 775-foot-long, 25-foot-diameter tunnel bringing flows from the intake to a gate house; (4) a gate house and gate shaft to convey flows from the tunnel to the main penstock; (5) a 120-foot-long, 9- to 13-foot-diameter main penstock, which bifercates into a 135-foot-long, 9-foot-diameter penstock leading to turbine 1 and a 115-foot-long, 9-foot-diameter penstock leading to turbine 2; (6) a 150-foot-long, 75-foot-wide powerhouse containing two vertical Francis turbine/generator units rated for 6.7 megawatts (MW) each, for a total installed capacity of 13.4 MW; (7) a 100-foot-long, 75-foot-wide tailrace returning project flows to the Allen River; (8) a 118-mile long, 138-kilovolt transmission line leading from the powerhouse to a substation in the town of Bethel; (9) project access facilities, including a float plane dock and a heliport; (10) project roads leading from the float plane dock to the dam and powerhouse; and (11) appurtenant facilities. The estimated annual generation of the Chikuminuk Project would be 88.7 gigawatt-hours.

Applicant Contact: Ms. Elaine Brown, Executive Director, Nuvista Light and Electric Cooperative, Inc., 301 Calista Court, Suite A, Anchorage, Alaska 99518; phone: (907) 868-2460.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14369) in the docket number field to access the document. For assistance, contact FERC Online Support.

Dated: March 27, 2012.
Kimberly D. Bose,
Secretary.

[FR Doc. 2012-7909 Filed 4-2-12; 8:45 am]

BILLING CODE 6717-01-P